DEPARTMENT OF AGRICULTURE

Farm Service Agency

Advisory Committee on Beginning Farmers and Ranchers

AGENCY: Farm Service Agency, USDA.

ACTION: Notice of extension of time limit for requesting additional nominations.

SUMMARY: The Secretary of Agriculture intends to renew the charter of the Advisory Committee on Beginning Farmers and Ranchers (Committee). The Committee provides advice to the Secretary on ways to encourage Federal and State beginning farmer programs to provide joint financing to beginning farmers and ranchers. A notice was published in the Federal Register on August 24, 2000, soliciting nominations of persons to serve on the Committee, and a September 25, 2000, deadline was established for accepting nominations. In order to obtain a sufficient pool of nominees, USDA is extending the deadline to December 7, 2000.

DATES: Nominations should be submitted by December 7, 2000 to Mark Falcone, Designated Federal Official (DFO) for the Committee, at the address below.

ADDRESSES: Mark Falcone, DFO for the Advisory Committee on Beginning Farmers and Ranchers, Farm Service Agency, U.S. Department of Agriculture, 1400 Independence Avenue, SW., Room 5438-S, STOP 0522, Washington, DC 20250-0522; telephone (202) 720-1632; FAX (202) 690-1117; e-mail mark_falcone@wdc.fsa.usda.gov.

FOR FURTHER INFORMATION CONTACT: Mark Falcone at (202) 720-1632.

SUPPLEMENTARY INFORMATION: Section 5 of the Agricultural Credit Improvement Act of 1992 (Pub. L. 102-554) required the Secretary of Agriculture to establish the Committee for the purpose of advising the Secretary on, among other issues, the development of a program of coordinated financial assistance to qualified beginning farmers and ranchers and methods of maximizing the number of new farming and ranching opportunities created through the program.

The law requires that Committee members include representatives from the Farm Service Agency (FSA); State beginning farmer programs (as defined in section 309(i)(5) of the Consolidated Farm and Rural Development Act); commercial lenders; private nonprofit organizations with active beginning farmer or rancher programs; the Cooperative State Research, Education, and Extension Service; community colleges or other educational institutions with demonstrated experience in training beginning farmers or ranchers; and other entities or persons providing lending or technical assistance to qualified beginning farmers or ranchers. The Secretary has also appointed farmers and ranchers to the Committee.

FSA is now accepting nominations of individuals to serve for a 2-year term on the Committee, which is comprised of 18 individuals. One-third of the existing Committee membership will be replaced when the Committee charter expires on November 25, 2000. No member, other than a USDA employee, can serve for more than 6 consecutive years.

Nominations are being sought through the media, the Federal Register, and other appropriate methods. Persons nominated for the Committee will be required to complete and submit an Advisory Committee Membership Background Information Questionnaire (Form AD 755). The questionnaire is available on the Internet at http://www.fsa.usda. gov/dafl/LoanForms.htm. Questionnaires can be completed on-line. However, nominees must print their completed forms from an Adobe PDF file and mail or fax them to the above address or fax number. The form may also be requested by telephone, fax, or e-mail. All inquiries and submissions should be made to Mark Falcone at the addresses and numbers listed above.

Appointments to the Committee will be made by the Secretary of Agriculture. Equal opportunity practices, consistent with USDA policies, will be followed in all appointments to the Committee. To ensure that the recommendations of the Committee have taken into account the needs of the diverse groups served by the Department, membership should include, to the extent practicable, individuals with demonstrated ability to represent minorities, women, persons with disabilities, and senior citizens.

Signed in Washington, D.C. on November 9, 2000.
Parks Shackelford,
Acting Administrator, Farm Service Agency.

[FR Doc. 00-29818 Filed 11-21-00; 8:45 am]

BILLING CODE 3410-05-P